DEPARTMENT OF COMMERCE

National Oceanic and Atmospheric Administration

RIN 0648-XD970

Pacific Whiting; Advisory Panel; Joint Management Committee

AGENCY: National Marine Fisheries Service (NMFS), National Oceanic and Atmospheric Administration (NOAA), Commerce.

ACTION: Notice; call for nominations.

SUMMARY: NMFS is soliciting nominations for appointments to the United States Advisory Panel (AP) and the Joint Management Committee (JMC) established in the Agreement between the Government of the United States of America and the Government of Canada on Pacific Hake/Whiting (Pacific Whiting Treaty). Nominations are being sought to fill six positions on the AP beginning on September 16, 2015, and one position on the JMC starting November 1, 2015. Terms are 4 years, and appointees will be eligible for reappointment at the expiration of the terms.

DATES: Nominations must be received by July 30, 2015.

ADDRESSES: You may submit nominations by any of the following methods:

Email: whiting.nominations.wcr@noaa.gov.

Fax: 206-526-6736, Attn: Frank Lockhart.

Mail: William W. Stelle, Jr., Regional Administrator, West Coast Region, NMFS, 7600 Sand Point Way NE., Seattle, WA 98115-0070.

FOR FURTHER INFORMATION CONTACT: Frank Lockhart, (206) 526-6142 or Miako Ushio, (206) 526-4644

SUPPLEMENTARY INFORMATION:

Background

Pacific Whiting Treaty Committees

The Pacific Whiting Act of 2006 (Pacific Whiting Act) (16 U.S.C. 7001-10) implements the 2003 Agreement between the Government of the United States of America and the Government of Canada on Pacific Hake/Whiting. Among other provisions, the Pacific Whiting Act provides for the establishment of a JMC and AP.

The JMC reviews the advice of two scientific bodies and the AP, and recommends to the Parties the coast-wide total allowable catch of Pacific whiting each year. Four individuals represent the United States on the JMC; one official from NOAA, one member of the Pacific Fishery Management Council, one representative of the treaty Indian tribes with treaty fishing rights to Pacific whiting, and one representative from the commercial fishing sector. NMFS is soliciting nominations for the representative of the commercial sector of the whiting fishing industry concerned with the offshore whiting resource (16 U.S.C. 7001(a)(1)(D)) through this notice.

The AP advises the JMC on bilateral Pacific whiting management issues. Eight individuals represent the United States on the AP, and nominations for six of those individuals (id. at section 7005) are solicited through this notice.

Members appointed to the U.S. sections of the AP and JMC will be reimbursed for necessary travel expenses in accordance with Federal Travel Regulations and sections 5701, 5702, 5704 through 5708, and 5731 of Title 5. (Id. at section 7008). NMFS anticipates that 1-2 meetings of the AP and of the JMC will be held annually, and these meetings will be held in the United States or Canada. AP and JMC members will need a valid U.S. passport.

The Pacific Whiting Act of 2006 also states that while performing their appointed duties, members “other than officers or employees of the United States Government, shall not be considered to be Federal employees while performing such service, except for purposes of injury compensation or tort claims liability as provided in chapter 81 of title 5 and chapter 171 of title 28.” (Id.)

Information on the Pacific Whiting Treaty, including current committee members can be found at: www.westcoast.fisheries.noaa.gov/fisheries/management/whiting/pacific_whiting_treaty.html.

Nominations

Nomination packages for appointments should include:

(1) The name of the applicant or nominee, position they are being nominated for and a description of his/her interest in Pacific whiting; and

(2) A statement of background and/or description of how the following qualifications are met.

Advisory Panel Qualifications

AP member nominees must be knowledgeable or experienced in the harvesting, processing, marketing, management, conservation, or research of the offshore Pacific whiting resource; and must not be employees of the United States government.

Joint Management Committee Qualifications

The JMC nominee must be from the commercial sector of the Pacific whiting fishing industry concerned with the offshore Pacific whiting resource, and must be knowledgeable or experienced concerning the offshore whiting resource.

Authority: 16 U.S.C. 7001 et seq.

Dated: June 3, 2015.
Emily H. Menashes,
Acting Director, Office of Sustainable Fisheries, National Marine Fisheries Service.

[FR Doc. 2015-13894 Filed 6-5-15; 8:45 am]

BILLING CODE 3510-22-P